DEPARTMENT OF COMMERCE

International Trade Administration

[A-570-084; C-570-085]

Certain Quartz Surface Products From the People's Republic of China: Rescission of Antidumping and Countervailing Duty Changed Circumstances Reviews; Global Stone

AGENCY: Enforcement and Compliance, International Trade Administration, Department of Commerce.

SUMMARY: The U.S. Department of Commerce (Commerce) is rescinding the changed circumstances reviews (CCR) of the antidumping duty (AD) and countervailing duty (CVD) orders on certain quartz surface products (quartz surface products) from the People's Republic of China (China) regarding quartz surface products imported by Global Stone Collection LLC (Global Stone) into the United States and exported by Bada Industries SDN BHD (Bada Industries).

DATES: Applicable October 24, 2023.

FOR FURTHER INFORMATION CONTACT: Ajay Menon, AD/CVD Operations, Office IX, Enforcement and Compliance, International Trade Administration, U.S. Department of Commerce, 1401 Constitution Avenue NW, Washington, DC 20230; telephone: (202) 482-0208.

SUPPLEMENTARY INFORMATION:

Background

On October 21, 2022, Commerce published in the Federal Register the final results of a scope ruling regarding imports of quartz surface products manufactured in China and further processed in Malaysia, finding that such imports are covered by the scope of the Orders.¹ Moreover, because exporters of quartz surface products from Malaysia export both subject and non-subject merchandise, Commerce established a scope certification process for all imports of quartz surface products from Malaysia. Commerce also determined that certain companies processing Chinese quartz slab in Malaysia, including Bada Industries, were ineligible to participate in this scope certification process, but indicated that they could request reconsideration of their exclusion from the certification process in a future segment of the proceeding.²

¹ See Certain Quartz Surface Products from the People's Republic of China: Final Scope Ruling on Malaysian Processed Quartz Slab and Recission of the Circumvention Inquiry, 87 FR 64009, 64010 (October 21, 2022).

² Id., 87 FR at 64010.

On June 26, 2023, based on a request filed by Global Stone,³ Commerce initiated a CCR to determine whether Bada Industries is eligible to certify that its quartz surface products are not produced from Chinese-origin quartz slab.⁴ On July 26, 2023, Global Stone filed a timely request for administrative review for its exporter, Bada Industries.⁵ On September 11, 2023, Commerce initiated AD and CVD administrative reviews of Bada Industries, among other Malaysian exporters.⁶

³ See Global Stone's Letter, “Request for Changed Circumstances Review of Bada Industries,” dated May 11, 2023.

⁴ See Certain Quartz Surface Products from the People's Republic of China: Initiation of Antidumping and Countervailing Duty Changed Circumstances Reviews; Global Stone, 88 FR 41377 (June 26, 2023) (Initiation Notice).

⁵ See Global Stone's Letter, “Request for Administrative Review—Quartz Surface Products from the People's Republic of China,” dated July 26, 2023.

⁶ See Initiation of Antidumping and Countervailing Duty Administrative Reviews, 88 FR 62322, 62335 (September 11, 2023) (Initiation of Reviews).

Rescission of Review

Commerce has determined that a CCR is not the appropriate segment to reconsider ineligible parties' exclusion from a certification process, where that ineligibility was due to a party's failure to cooperate in a prior segment of a proceeding.⁷ Commerce explained that an administrative review is the proper segment of a proceeding for a party deemed ineligible from participating in a certification process to request reconsideration of its eligibility to certify, absent evidence of a changed circumstance.⁸ In light of Solar Cells, Commerce has reevaluated Global Stone's CCR request and determines that a party's newfound willingness to participate is not a changed circumstance sufficient to warrant such a review. Additionally, as noted above, Commerce recently initiated AD and CVD administrative reviews of Bada Industries, among other exporters.⁹ As a result, consistent with Solar Cells, Commerce will reevaluate the eligibility of Bada Industries to participate in the certification process as part of these administrative reviews. Consequently, we are rescinding this CCR with respect to Bada Industries.

⁷ See Antidumping and Countervailing Duty Orders on Crystalline Silicon Photovoltaic Cells, Whether or Not Assembled Into Modules, from the People's Republic of China: Final Scope Determination and Final Affirmative Determinations of Circumvention With Respect to Cambodia, Malaysia, Thailand, and Vietnam, 88 FR 57419 (August 23, 2023) (Solar Cells), and accompanying Vietnam Issues and Decision Memorandum at Comment 19 (finding that Commerce has no basis to conduct a changed circumstances review absent evidence of a changed circumstance).

⁸ Id.

⁹ See Initiation of Reviews, 88 FR at 62335.

Notification Regarding Administrative Protective Order

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751(a)(1) and 777(i)(1) of the Tariff Act of 1930, as amended and 19 CFR 351.213(d)(4).

Dated: October 19, 2023.
James Maeder,
Deputy Assistant Secretary for Antidumping and Countervailing Duty Operations.

[FR Doc. 2023-23442 Filed 10-23-23; 8:45 am]

BILLING CODE 3510-DS-P